DEPARTMENT OF TRANSPORTATION

Surface Transportation Board

[Docket No. AB 415 (Sub-No. 2X)]

Escanaba & Lake Superior Railroad Company—Abandonment Exemption—in Ontonagon and Houghton Counties, MI

On April 9, 2010, Escanaba & Lake Superior Railroad Company (ELS) filed with the Surface Transportation Board (Board) a petition under 49 U.S.C. 10502 for exemption from the provisions of 49 U.S.C. 10903 to abandon approximately 42.93 miles of rail line in Ontonagon and Houghton Counties, Mich., extending between milepost 408.02 at Ontonagon and milepost 365.09 at Sidnaw. The line traverses United States Postal Service Zip Codes 49948, 49953, and 49961, and includes the stations of Ontonagon at milepost 408.0, Mass at milepost 388.8, Rockland at milepost 396.1, Rosseau at milepost 383.2, Pori at milepost 381.2 and Frost at milepost 373.1.

The line does contain federally granted rights-of-way. Any documentation in the possession of ELS will be made available promptly to those requesting it.

The interest of railroad employees will be protected by the conditions set forth in Oregon Short Line Railroad and The Union Pacific Railroad Company—Abandonment Portion Goshen Branch Between Firth and Ammon, In Bingham and Bonneville Counties, Idaho, 360 I.C.C. 91 (1979).

By issuance of this notice, the Board is instituting an exemption proceeding pursuant to 49 U.S.C. 10502(b). A final decision will be issued on or before July 28, 2010. ELS has requested that its petition be given expedited consideration.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than May 12, 2010. Each trail request must be accompanied by a $250 filing fee. See 49 CFR 1002.2(f)(27).

All filings in response to this notice must refer to Docket No. AB 415 (Sub-No. 2X) and must be sent to: (1) Surface Transportation Board, 395 E Street, SW., Washington, DC 20423-0001; and (2) Keith G. O'Brien, 2401 Pennsylvania Avenue, NW., Suite 300, Washington, DC 20037. Replies to the petition are due on or before May 12, 2010.

Persons seeking further information concerning abandonment procedures may contact the Board's Office of Public Assistance, Governmental Affairs and Compliance at (202) 245-0238 or refer to the full abandonment or discontinuance regulations at 49 CFR part 1152. Questions concerning environmental issues may be directed to the Board's Section of Environmental Analysis (SEA) at (202) 245-0305. Assistance for the hearing impaired is available through Federal Information Relay Service (FIRS) at 1-800-877-8339.

An environmental assessment (EA) (or environmental impact statement (EIS), if necessary) prepared by SEA will be served upon all parties of record and upon any agencies or other persons who commented during its presentation. Other interested persons may contact SEA to obtain a copy of the EA (or EIS). EAs in these abandonment proceedings normally will be made available within 60 days of the filing of the petition. The deadline for submission of comments on the EA generally will be within 30 days of its service.

Board decisions and notices are available on our Web site at http://www.stb.dot.gov.

Decided: April 20, 2010.
By the Board, Rachel D. Campbell, Director, Office of Proceedings.
Kulunie L. Cannon,
Clearance Clerk.

[FR Doc. 2010-9676 Filed 4-23-10; 8:45 am]

BILLING CODE 4915-01-P